DEPARTMENT OF AGRICULTURE

Rural Utilities Service

Dairyland Power Cooperative, Inc.: Notice of Intent To Prepare an Environmental Impact Statement and Hold Public Scoping Meetings

AGENCY: Rural Utilities Service, USDA.

ACTION: Notice of Intent To Prepare an Environmental Impact Statement and Hold Public Scoping Meetings.

SUMMARY: The Rural Utilities Service (RUS) intends to prepare an Environmental Impact Statement (EIS) and hold public scoping meetings and in connection with possible impacts related to a project proposed by Dairyland Power Cooperative in the CapX 2020 Hampton-Rochester-La Crosse Transmission Line Project. The proposal consists of the construction of a 345-kilovolt (kV) transmission line and associated infrastructure between Hampton, Minnesota and the La Crosse area in Wisconsin. The project also includes construction of new 161-kV transmission lines and associated facilities in the area of Rochester, Minnesota. The total length of 345-kV and 161-kV transmission lines associated with the proposed project will be approximately 150 miles. Proposed and alternate transmission segments and locations for proposed and alternate associated facilities have been identified by Dairyland Power Cooperative. Dairyland Power Cooperative is requesting RUS to provide financing for its portion of the proposed project.

DATES: RUS will conduct six public scoping meetings in an open-house format followed by a discussion period: June 16, 2009, Plainview-Elgin-Millville High School, 500 West Broadway, Plainview, Minnesota; June 17, 2009, Wanamingo Community Center, 401 Main Street, Wanamingo, Minnesota; June 18, 2009, City of St. Charles Community Meeting Room, 830 Whitewater Avenue, St. Charles, Minnesota; June 23, 2009, La Crescent American Legion, 509 N. Chestnut, La Crescent, Minnesota; June 24, 2009, Centerville/Town of Trempealeau Community Center, W24854 State Road 54/93, Galesville, Wisconsin; and June 25, 2009, Cochrane-Fountain City High School, S2770 State Road 35, Fountain City, Wisconsin. All meetings will be held between 6-8:00 PM local time. Comments regarding the proposed project may be submitted (orally or in writing) at the public scoping meetings or in writing to RUS at the address listed in this notice no later than June 29, 2009.

ADDRESSES: To send comments or for further information, contact Stephanie Strength, Environmental Protection Specialist, USDA, Rural Utilities Service, Engineering and Environmental Staff, 1400 Independence Avenue, SW., Stop 1571, Washington, DC 20250-1571, telephone: (202) 720-0468 or e-mail: stephanie.strength@usda.gov.

An Alternative Evaluation Study (AES) and Macro Corridor Study (MCS), prepared by Dairyland Power Cooperative, will be presented at the public scoping meetings. The reports are available for public review at the RUS address provided in this notice and at Dairyland Power Cooperative, 3251 East Avenue, South, La Crosse, WI 54602. In Addition, the reports will be available at RUS' Web site, http://www.usda.gov/rus/water/ees/eis.htm and at the following repositories:

Alma Public Library, 312 North Main Street, Alma, WI 54610, Phone: 608-685-3823.

Arcadia Public Library, 406 E Main Street, Arcadia, WI 54612, Phone: 608-323-7505.

Blair-Preston Library, 122 Urberg Street, Blair, WI 54616, Phone: 608-989-2502.

Campbell Library, 2219 Bainbridge Street, La Crosse, WI 54603, Phone: 608-783-0052.

Cannon Falls Library, 306 West Mill Street, Cannon Falls, MN 55009, Phone: 507-263-2804.

Dairyland Power Cooperative, 500 Old State Highway 35, Alma, WI 54610, Phone: 608-685-4497.

Galesville Public Library, 16787 South Main Street, Galesville, WI 54630, Phone: 608-582-2552.

Hokah Public Library, 57 Main Street, Hokah, MN 55941, Phone: 507-894-2665.

Holmen Area Library, 16787 South Main Street, Galesville, WI 54630, Phone: 608-526-4198.

Kenyon Public Library, 709 2nd Street, Kenyon, MN 55946, Phone: 507-789-6821.

Riverland Energy Cooperative, N28988 State Road 93, Arcadia, WI 54612, Phone: 608-323-3381.

Rochester Public Library, 101 2nd Street SE., Rochester, MN 55963, Phone: 507-328-2309.

Shirley M. Wright Memorial Library, 11455 Fremont Street, Trempealeau, WI 54650, Phone: 608-534-6197.

St. Charles Public Library, 125 W 11th Street, St. Charles, MN 55927, Phone: 507-932-3227.

Tri-County Electric, 31110 Cooperative Way, Rushford, MN 55971, Phone: 507-864-7783.

La Crescent Public Library, 321 Main Street, La Crescent, MN 55947, Phone: 507-895-4047.

La Crosse Public Library, 800 Main Street, La Crosse, WI 54601, Phone: 608-789-7109.

Onalaska Public Library, 741 Oak Avenue, South, Onalaska, WI 54650, Phone: 608-781-9568.

People's Cooperative Services, 3935 Hwy 14 E, Rochester, MN 55903, Phone: 507-288-4004.

Plainview Public Library, 115 SE 3rd Street, Pine Island, MN 55963, Phone: 507-534-3425.

Van Horn Public Library, 115 SE 3rd Street, Pine Island, MN 55963, Phone: 507-356-8558.

Winona Public Library, 151 West 5th Street, Winona, MN 55987, Phone: 507-452-4582.

Xcel Energy, 5050 Service Drive, Winona, MN 55987, Phone: 800-422-0782.

Xcel Energy, 1414 West Hamilton Avenue, Eau Claire, WI 54701, Phone: 715-839-2621.

Zumbrota Public Library, 100 West Avenue, Zumbrota, MN 55992, Phone: 507-732-5211.

SUPPLEMENTARY INFORMATION: Preliminary proposed transmission line corridors and siting areas for substations have been identified. The EIS will address the construction, operation, and management of the proposed project, which includes a 345-kV transmission line and associated infrastructure between Hampton, Minnesota and the La Crosse area of Wisconsin; 161-kV transmission lines in the vicinity of Rochester, Minnesota; construction and maintenance of access roads for all proposed transmission lines; construction of up to three new substations, and expansion of up to three existing substations. Total length of the transmission lines for the proposed project will be approximately 150 miles. The project study area includes part or all of the following counties in Minnesota: Dakota, Goodhue, Wabasha, Winona, Houston, Olmsted, Rice, and Dodge. In Wisconsin, the project area includes parts of the following counties: La Crosse, Trempealeau, and Buffalo.

Among the alternatives RUS will address in the EIS is the No Action alternative, under which the project would not be undertaken. In the EIS, the effects of the proposed project will be compared to the existing conditions in the area affected. Alternative transmission line corridors and substation locations will be refined as part of the EIS scoping process and will be addressed in the Draft EIS. RUS will carefully study public health and safety, environmental impacts, and engineering aspects of the proposed project and all related facilities.

RUS will use input provided by government agencies, private organizations, and the public in the preparation of the Draft EIS. The Draft EIS will be available for review and comment for 45 days. A Final EIS that considers all comments received will subsequently be prepared. The Final EIS will be available for review and comment for 30 days. Following the 30-day comment period, RUS will prepare a Record of Decision (ROD). Notices announcing the availability of the Draft EIS, the Final EIS, and the ROD will be published in the Federal Register and in local newspapers.

Any final action by RUS related to the proposed project will be subject to, and contingent upon, compliance with all relevant federal, state, and local environmental laws and regulations and completion of the environmental review requirements as prescribed in the RUS Environmental Policies and Procedures (7 CFR part 1794).

Dated: May 22, 2009.
Mark S. Plank,
Director, Engineering and Environmental Staff, USDA/Rural Utilities Service.

[FR Doc. E9-12407 Filed 5-27-09; 8:45 am]

BILLING CODE P